DEPARTMENT OF ENERGY

Federal Energy Regulatory Commission

Combined Notice of Filings #1

Take notice that the Commission received the following electric rate filings:

Docket Numbers: ER18-136-001.

Applicants: Midcontinent Independent System Operator, Inc.

Description: Tariff Amendment: 2017-10-25_Errata filing to MISO-PJM JOA revisions to address congestion overlap to be effective 3/1/2018.

Filed Date: 10/25/17.

Accession Number: 20171025-5233.

Comments Due: 5 p.m. ET 11/15/17.

Docket Numbers: ER18-164-000.

Applicants: Public Service Company of Colorado.

Description: Stipulation and Offer of Settlement of Public Service Company of Colorado.

Filed Date: 10/25/17.

Accession Number: 20171025-5247.

Comments Due: 5 p.m. ET 11/15/17.

Docket Numbers: ER18-165-000.

Applicants: Midcontinent Independent System Operator, Inc.

Description: § 205(d) Rate Filing: 2017-10-26_SA 3030 Tenaska-Entergy 1st Rev GIA (J486) to be effective 10/23/2017.

Filed Date: 10/26/17.

Accession Number: 20171026-5042.

Comments Due: 5 p.m. ET 11/16/17.

Docket Numbers: ER18-166-000.

Applicants: Northern States Power Company, a Minnesota corporation.

Description: § 205(d) Rate Filing: 2017-10-25 NSP-MVLP-Connection Agrmt-0.0.0-653 to be effective 1/1/2018.

Filed Date: 10/26/17.

Accession Number: 20171026-5129.

Comments Due: 5 p.m. ET 11/16/17.

Docket Numbers: ER18-167-000.

Applicants: Southwest Power Pool, Inc.

Description: § 205(d) Rate Filing: 3179R1 Transource Missouri & OPPD Interconnection Agreement to be effective 10/18/2017.

Filed Date: 10/26/17.

Accession Number: 20171026-5162.

Comments Due: 5 p.m. ET 11/16/17.

Docket Numbers: ER18-168-000.

Applicants: PJM Interconnection, L.L.C.

Description: § 205(d) Rate Filing: Amendment to Interconnection Service Agreement No. 1371, Queue No. K19 to be effective 7/28/2005.

Filed Date: 10/26/17.

Accession Number: 20171026-5228.

Comments Due: 5 p.m. ET 11/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2017.
Nathaniel J. Davis, Sr.,
Deputy Secretary.

[FR Doc. 2017-23775 Filed 10-31-17; 8:45 am]

BILLING CODE 6717-01-P